DEPARTMENT OF LABOR

Employment and Training Administration

[TA-W-59,414]

Bemis Company, Inc. Paper Packaging Division Including On-Site Leased Workers of Westaff, Peoria, IL; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on June 8, 2006, applicable to workers of Bemis Company, Inc., Paper Packaging Division, Peoria, Illinois. The notice was published in the Federal Register on July 14, 2006 (71 FR 40159).

At the request of a company official, the Department reviewed the certification for workers of the subject firm. The workers were engaged in the production of industrial consumer package materials including multi-wall bags.

New information shows that leased workers of Westaff were employed on-site at the Peoria, Illinois location of Bemis Company, Inc., Paper Packaging Division. The Department has determined that the Westaff workers were sufficiently under the control of Bemis Company, Inc. to be considered leased workers.

Based on these findings, the Department is amending this certification to include leased workers of Westaff working on-site at the Peoria, Illinois location of the subject firm.

The intent of the Department's certification is to include all workers employed at Bemis Company, Inc., Paper Packaging Division, including on-site leased workers of Westaff, Peoria, Illinois who were adversely affected by a shift in production to Mexico.

The amended notice applicable to TA-W-59,414 is hereby issued as follows:

All workers of Bemis Company, Inc., Paper Packaging Division, including on-site leased workers of Westaff, Peoria, Illinois, who became totally or partially separated from employment on or after April 25, 2005, through June 8, 2008, are eligible to apply for adjustment assistance under section 223 of the Trade Act of 1974, and are also eligible to apply for alternative trade adjustment assistance under section 246 of the Trade Act of 1974.

Signed at Washington, DC this 1st day of August 2007.
Linda G. Poole,
Certifying Officer, Division of Trade Adjustment Assistance.

[FR Doc. E7-15536 Filed 8-8-07; 8:45 am]

BILLING CODE 4510-FN-P